SECURITIES AND EXCHANGE COMMISSION

Sunshine Act Meetings

TIME AND DATE: Notice is hereby given, pursuant to the provisions of the Government in the Sunshine Act, Public Law 94-409, that the Securities and Exchange Commission Asset Management Advisory Committee (“AMAC”) will hold a public meeting on Thursday, October 28, 2021 at 10:00 a.m.

PLACE: The meeting will be conducted by remote means. Members of the public may watch the webcast of the meeting on the Commission's website at www.sec.gov.

STATUS: The meeting will begin at 10:00 a.m. and will be open to the public by webcast on the Commission's website at www.sec.gov.

MATTERS TO BE CONSIDERED: On October 19, 2021, the Commission issued notice of the meeting (Release No. 34-93380), indicating that the meeting is open to the public and inviting the public to submit written comments to AMAC. This Sunshine Act notice is being issued because a majority of the Commission may attend the meeting.

The meeting will include a discussion of matters in the asset management industry relating to the Evolution of Advice and the Small Advisers and Small Funds Subcommittees, including panel discussions and potential recommendations.

CONTACT PERSON FOR MORE INFORMATION: For further information, please contact Vanessa A. Countryman from the Office of the Secretary at (202) 551-5400.

Authority: 5 U.S.C. 552b.

Dated: October 19, 2021.
Vanessa A. Countryman,
Secretary.

[FR Doc. 2021-23108 Filed 10-19-21; 4:15 pm]

BILLING CODE 8011-01-P